DEPARTMENT OF AGRICULTURE

Natural Resources Conservation Service

Revision of List of Agents To Accept Legal Process

AGENCY: Natural Resources Conservation Service, USDA.

ACTION: Notice of change to list of agents and/or contact information designated to accept legal process.

SUMMARY: This document revises the list of agents designated to accept legal process found in the Code of Federal Regulations (CFR) part 581, appendix A.

Human Resources Manager, Natural Resources Conservation Service, Human Resources Services Team, PO Box 2890, Room 5212—South Bldg., Washington, DC 20013-2890, (202) 720-4264.

Human Resources Manager, Natural Resources Conservation Service, Human Resources Services Team, 501 W. Felix Street, FWFC, Bldg. 23, PO Box 6567, Ft. Worth, TX 76115, (817) 504-3504.

Human Resources Manager, Natural Resources Conservation Service, 3381 Skyway Drive, PO Box 311, Auburn, AL 36830, (334) 887-4543.

Human Resources Manager, Natural Resources Conservation Service, 800 West Evergreen, Atrium Bldg., Suite 100, Palmer, AK 99645-6539, (907) 761-7743.

Human Resources Manager, Natural Resources Conservation Service, U.S. Courthouse—Federal Bldg., 230 N. First Avenue, Suite 509, Phoenix, AZ 85003-1706, (602) 280-8800.

Human Resources Manager, Natural Resources Conservation Service, Federal Bldg., Room 3416, 700 West Capitol Avenue, Little Rock, AR 72201-3228, (501) 301-3136.

Human Resources Manager, Natural Resources Conservation Service, 430 G Street, Suite 4164, Davis, CA 95616-4164, (530) 792-5691.

Human Resources Manager, Natural Resources Conservation Service, 655 Parfet Street, Room E200C, Lakewood, CO 80215-5517, (720) 544-2823.

Human Resources Manager, Natural Resources Conservation Service, 344 Merrow Road, Tolland, CT 06084-3917, (860) 871-4011.

Human Resources Manager, Natural Resources Conservation Service, 1203 College Park Drive, Suite 101, Dover, DE 19904-8713, (302) 678-4173.

Human Resources Manager, Natural Resources Conservation Service, 2614 NW. 43rd Street, Gainesville, FL 32606-6611, (352) 338-9526.

Human Resources Manager, Natural Resources Conservation Service, 355 E. Hancock Avenue, Stop Number 200, Athens, GA 30601, (706) 546-2118.

Administrative Officer, Natural Resources Conservation Service, FHB Bldg., Suite 301, 400 Route 8, Mongmong, GU 96910-2003, (671) 472-7165.

Human Resources Manager, Natural Resources Conservation Service, 300 Ala Moana Blvd., Room 4118, Honolulu, HI 96850-4118, (808) 541-2600, ext. 150.

Human Resources Manager, Natural Resources Conservation Service, 693 Federal Bldg., 210 Walnut, Suite 693, Des Moines, IA 50309, (515) 284-4587.

Human Resources Manager, Natural Resources Conservation Service, 9173 West Barnes Drive, Suite C, Boise, ID 83709-1574, (208) 378-5712.

Human Resources Manager, Natural Resources Conservation Service, 2118 W. Park Court, Champaign, IL 61821, (217) 353-6619.

Human Resources Manager, Natural Resources Conservation Service, 6013 Lakeside, Blvd., Indianapolis, IN 46278-2933, (317) 290-3200, ext. 333.

Human Resources Manager, Natural Resources Conservation Service, 760 S. Broadway, Salina, KS 67401, (785) 823-4522.

Human Resources Manager, Natural Resources Conservation Service, 771 Corporate Drive, Suite 210, Lexington, KY 40503, (859) 224-7401.

Human Resources Manager, Natural Resources Conservation Service, 3737 Government Street, Alexandria, LA 71303, (318) 473-7769.

Human Resources Manager, Natural Resources Conservation Service, 451 West Street, Amherst, MA 01002-2955, (413) 253-4353.

Human Resources Manager, Natural Resources Conservation Service, John Hanson Business Center, 339 Busch's Frontage Road, Suite 301, Annapolis, MD 21401, (410) 757-2926.

Human Resources Manager, Natural Resources Conservation Service, 967 Illinois Avenue, Suite #3, Bangor, ME 04401, (207) 990-9100, ext. 501.

Human Resources Manager, Natural Resources Conservation Service, 3001 Coolidge Road, Suite 250, East Lansing, MI 48823, (517) 324-5134.

Human Resources Manager, Natural Resources Conservation Service, 375 Jackson Street, Suite 600, St. Paul, MN 55101, (651) 602-7855.

Human Resources Manager, Natural Resources Conservation Service, Suite 1321, Federal Bldg., 100 West Capitol Street, Jackson, MS 39269-1399, (601) 965-4549.

Human Resources Manager, Natural Resources Conservation Service, Parkade Center, Suite 250, Business Loop 70 West, Columbia, MO 65203-2536, (573) 876-0904.

Human Resources Manager, Natural Resources Conservation Service, Federal Bldg., Room 443, 10 East Babcock Street, Bozeman, MT 59715-4704, (406) 587-6937.

Human Resources Manager, Natural Resources Conservation Service, 4405 Bland Road, Suite 205, Raleigh, NC 27609-6293, (919) 873-2108.

Human Resources Manager, Natural Resources Conservation Service, 220 E. Rosser Avenue, Room 278, P.O. Box 1458, Bismarck, ND 58502-1458, (701) 530-2008.

Human Resources Manager, Natural Resources Conservation Service, Federal Bldg., Room 152, 100 Centennial Mall North, Lincoln, NE 68508-3866, (402) 437-4057.

Human Resources Manager, Natural Resources Conservation Service, Federal Bldg., 2 Madbury Road, Durham, NH 03824-2043, (603) 868-7581.

Human Resources Manager, Natural Resources Conservation Service, 220 Davidson Avenue, 4th Floor, Somerset, NJ 08873, (732) 537-6081.

Human Resources Manager, Natural Resources Conservation Service, 6200 Jefferson Street, NE., Suite 305, Albuquerque, NM 87109-3734, (505) 761-4409.

Human Resources Manager, Natural Resources Conservation Service, 5301 Longley Lane, Bldg. F, Suite 201, Reno, NV 89511-1805, (775) 784-5868. ext.172.

Human Resources Manager, Natural Resources Conservation Service, 441 South Salina Street, Suite 354, Room 520, Syracuse, NY 13202-2450, (315) 477-6512.

Human Resources Manager, Natural Resources Conservation Service, 200 North High Street, Room 522, Columbus, OH 43215-2478, (614) 255-2509.

Human Resources Manager, Natural Resources Conservation Service, 100 USDA, Suite 206, Stillwater, OK 74074-2655, (405) 742-1209.

Human Resources Manager, Natural Resources Conservation Service, 101 SW Main Street, Suite 1300, Portland, OR 97204-3221, (503) 414-3223.

Human Resources Manager, Natural Resources Conservation Service, 1 Credit Union Place, Suite 340, Harrisburg, PA 17110-2993, (717) 237-2229.

Human Resources Manager, Natural Resources Conservation Service, IBM Bldg., Suite 604, 654 Munoz Rivera Avenue, Hato Rey, PR 00918-4123 (787) 766-5206, ext. 228.

Human Resources Manager, Natural Resources Conservation Service, 60 Quaker Lane, Suite 46, Warwick, RI 02886-0111, (401) 828-1300.

Human Resources Manager, Natural Resources Conservation Service, Strom Thurmond Federal Bldg., 1835 Assembly Street, Room 950, Columbia, SC 29201-2489, (803) 253-3920.

Human Resources Manager, Natural Resources Conservation Service, Federal Bldg., 200 Fourth Street SW., Huron, SD 57350-2475, (605) 352-1224.

Human Resources Manager, Natural Resources Conservation Service, 675 U.S. Courthouse, 801 Broadway, Nashville, TN 37203-3878, (615) 277-2541.

Human Resources Manager, Natural Resources Conservation Service, W.R. Poage Federal Bldg., 101 South Main Street, Temple, TX 76501-7602, (254) 742-9931.

Human Resources Manager, Natural Resources Conservation Service, W.F. Bennett Federal Bldg., 125 South State Street, Room 4402, Salt Lake City, UT 84138-1100, (801) 524-4576.

Human Resources Manager, Natural Resources Conservation Service, 356 Mountain View Drive, Suite 105, Colchester, VT 05446, (802) 951-6796.

Human Resources Manager, Natural Resources Conservation Service, Culpeper Bldg., Suite 209, 1606 Santa Rosa Road, Richmond, VA 23229-5014, (804) 287-1666.

Human Resources Manager, Natural Resources Conservation Service, Rock Point Tower II, W. 316 Boone Avenue, Suite 450, Spokane, WA 99201-2348, (509) 323-2931.

Human Resources Manager, Natural Resources Conservation Service, 75 High Street, Room 301, Morgantown, WV 26505, (304) 284-7599.

Human Resources Manager, Natural Resources Conservation Service, 8030 Excelsior Drive, Suite 200, Madison, WI 53717, (608) 662-4430.

Human Resources Manager, Natural Resources Conservation Service, P.O. Box 33124, Casper, WY 82602, (307) 233-6794.

DATES: Effective Date: January 11, 2005.

FOR FURTHER INFORMATION CONTACT: Shelli Moore, Human Resources Specialist, (605) 352-1287.

Karen W. Karlinchak,
Director, Human Resources Management Division.

[FR Doc. 05-512 Filed 1-10-05; 8:45 am]

BILLING CODE 3410-16-P